LIBRARY OF CONGRESS

Copyright Office

37 CFR Parts 201 and 202

[Docket No. 2018-9]

Registration Modernization

AGENCY: U.S. Copyright Office, Library of Congress.

ACTION: Statement of policy and notification of inquiry; extension of comment period.

SUMMARY: The U.S. Copyright Office is extending the deadline for the submission of written comments in response to its March 3, 2020, statement of policy and notification of inquiry regarding registration modernization.

DATES: The comment period for the notification of inquiry published March 3, 2020, at 85 FR 12704, is extended. Written comments must be received no later than 11:59 p.m. Eastern Time on June 1, 2020.

ADDRESSES: For reasons of government efficiency, the Copyright Office is using the regulations.gov system for the submission and posting of public comments in this proceeding. All comments are therefore to be submitted electronically through regulations.gov. Specific instructions for submitting comments are available on the Copyright Office's website at https://www.copyright.gov/rulemaking/online-publication/. If electronic submission of comments is not feasible due to lack of access to a computer and/or the internet, please contact the Office using the contact information below for special instructions.

FOR FURTHER INFORMATION CONTACT: Regan A. Smith, General Counsel and Associate Register of Copyrights, regans@copyright.gov; Robert J. Kasunic, Associate Register of Copyrights and Director of Registration Policy and Practice, rkas@copyright.gov; Kevin Amer, Deputy General Counsel, kamer@copyright.gov; Erik Bertin, Deputy Director of Registration Policy and Practice, ebertin@copyright.gov; or Jalyce E. Mangum, Attorney-Advisor, jmang@copyright.gov. They can be reached by telephone at 202-707-3000.

SUPPLEMENTARY INFORMATION: Following an extensive public inquiry,¹ on March 3, 2020, the U.S. Copyright Office issued a statement of policy and notification of inquiry announcing several intended practice updates to be adopted with the deployment of a new Enterprise Copyright System (ECS) and soliciting further comment on additional proposed reforms under consideration. 85 FR 12704 (Mar. 3, 2020).

¹ Registration Modernization, 83 FR 52336 (Oct. 17, 2018).

To ensure that members of the public have sufficient time to comment, and to ensure that the Office has the benefit of a complete record, the Office is extending the deadline for the submission of comments to no later than 11:59 p.m. Eastern Time on June 1, 2020.

Dated: March 13, 2020.
Regan A. Smith,
General Counsel and Associate Register of Copyrights.

[FR Doc. 2020-05696 Filed 3-19-20; 8:45 am]

BILLING CODE 1410-30-P